DEPARTMENT OF DEFENSE

Department of the Army, Corps of Engineers

33 CFR Part 334

United States Navy Restricted Area, Hood Canal, Naval Submarine Base Bangor, Bangor, WA

AGENCY: United States Army Corps of Engineers, Department of Defense.

ACTION: Final rule.

SUMMARY: The Corps of Engineers is amending existing regulations to expand the existing restricted area in the waters of Hood Canal adjacent to Naval Submarine Base Bangor, at Bangor, Washington. This amendment also changes the enforcement responsibility from Commander, Naval Base, Seattle, Washington (now Commander, Navy Region Northwest) to Commander, Naval Submarine Base Bangor. The purpose of the amendment is to increase the protection of Navy strategic assets moored at Naval Submarine Base Bangor.

EFFECTIVE DATE: February 4, 2004.

ADDRESSES: U.S. Army Corps of Engineers, ATTN: CECW-OR, 441 G Street, NW., Washington DC, 20314-1000.

FOR FURTHER INFORMATION CONTACT: Mr. Frank Torbett, Headquarters Regulatory Branch at (202) 761-4618 or Mr. Jack Kennedy, Corps of Engineers Seattle District, at (206) 764-6907.

SUPPLEMENTARY INFORMATION: Pursuant to its authorities in section 7 of the Rivers and Harbors Act of 1917 (40 Stat. 266; 33 U.S.C. 1) and chapter XIX of the Army Appropriation Act of 1919 (40 Stat. 892; 33 U.S.C. 3) the Corps is amending the restricted area regulations in 33 CFR part 334 by amending § 334.1220 to enlarge the presently established naval restricted Area 1, in Hood Canal, adjacent to Naval Submarine Base Bangor, at Bangor, Washington.

Procedural Requirements

a. Review Under Executive Order 12866

This rule is issued with respect to a military function of the Defense Department and the provisions of Executive Order 12866 do not apply.

b. Review Under the Regulatory Flexibility Act

This rule has been reviewed under the Regulatory Flexibility Act (Pub. L. 96-354), which requires the preparation of a regulatory flexibility analysis for any regulation that will have a significant economic impact on a substantial number of small entities (i.e., small businesses and small governments). The Corps expects that the economic impact of the enlargement of this restricted area would have practically no impact on the public, no anticipated navigational hazard or interference with existing waterway traffic, and accordingly, certifies that this proposal will have no significant economic impact on small entities.

c. Review Under the National Environmental Policy Act

The Seattle District has prepared an Environmental Assessment (EA) for this action. The District has concluded that this action will not have a significant impact on the quality of the human environment, and preparation of an Environmental Impact Statement is not required. The EA may be reviewed at the Seattle District Office listed at the end of FOR FURTHER INFORMATION CONTACT, above.

d. Unfunded Mandates Act

This rule does not impose an enforceable duty among the private sector and, therefore, is not a Federal private sector mandate and is not subject to the requirements of section 202 or 205 of the Unfunded Mandates Act. The District has also found under section 203 of the Act, that small governments will not be significantly and uniquely affected by this rulemaking

List of Subjects in 33 CFR Part 334

Danger zones, Marine safety, Restricted areas, Waterways.

For the reasons set out in the preamble, we are amending 33 CFR Part 334 to read as follows:

PART 334—DANGER ZONE AND RESTRICTED AREA REGULATIONS.

1. The authority citation for part 334 continues to read as follows:

Authority: 40 Stat. 266; (33 U.S.C. 1) and 40 Stat. 892; (33 U.S.C. 3)

2. Revise section 334.1220 to read as follows:

§ 334.1220 Hood Canal, Bangor; naval restricted areas.

(a) Hood Canal, Bangor; Naval restricted areas—(1) Area No. 1. That area bounded by a line commencing on the east shore of Hood Canal at latitude 47 deg.46′18″ N, longitude 122 deg.42′18″ W; thence latitude 47 deg.46′32″ N, longitude 122 deg.42′20″ W; thence to latitude 47 deg.46′38″ N, longitude 122 deg.42′52″ W; thence to latitude 47 deg.44′15″ N, longitude 122 deg.44′50″ W; thence to latitude 47 deg.43′53″ N, longitude 122 deg.44′58″ W; thence to latitude 47 deg.43′17” N, longitude 122 deg.44′49″ W.

(2) Area No. 2. Waters of Hood Canal within a circle of 1,000 yards diameter centered on a point located at latitude 47 deg.46′26″ N, longitude 122 deg.42′49″ W.

(3) The regulations—(i) Area No. 1. No person or vessel shall enter this area without permission from the Commander, Naval Submarine Base Bangor, or his/her authorized representative.

(ii) Area No. 2. (A) The area will be used intermittently by the Navy for magnetic silencing operations.

(B) Use of any equipment such as anchors, grapnels, etc., which may foul underwater installations within the restricted area, is prohibited at all times.

(C) Dumping of any nonbuoyant objects in this area is prohibited.

(D) Navigation will be permitted within that portion of this circular area not lying within Area No. 1 at all times except when magnetic silencing operations are in progress.

(E) When magnetic silencing operations are in progress, use of the area will be indicated by display of quick flashing red beacons on the pier located in the southeast quadrant of the area.

(4) Enforcement. The regulations in this subsection shall be enforced by the Commander, Naval Submarine Base Bangor, or his/her authorized representative.

Dated: December 29, 2003.
Lawrence A. Lang,
Deputy Chief, Operations Division, Directorate of Civil Works.

[FR Doc. 04-88 Filed 1-2-04; 8:45 am]

BILLING CODE 3710-92-P